DEPARTMENT OF LABOR

Office of the Secretary

Submission for OMB Review: Comment Request

June 10, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on (202) 693-4129 (this is not a toll-free number) or e-mail: king.darrin@dol.gov.

Comments should be sent to Office of Information and Regulatory Affairs, Attn: OMB Desk Officer for the Bureau of Labor Statistics (BLS), Office of Management and Budget, Room 10235, Washington, DC 20503, (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics, Labor.

Type of Review: Reinstatement, with change, of a previously approved collection.

Title: Veterans Supplement to the CPS.

OMB Number: 1220-0102.

Type of Response: Reporting.

Affected Public: Individuals or households.

Frequency: Biennially.

Number of Respondents: 12,000.

Annual Responses: 12,000.

Average Response Time: 1 minute per response.

Estimated Annual Burden Hours: 200.

Total Annualized capital/startup costs: $0.

Total Annual Costs (operating/maintaining systems or purchasing services): $0.

Description: The veterans supplement provides information on the number and characteristics of disabled veterans, veterans who served in the Vietnam war theater, and recently separated veterans, including their employment status. The supplement also provides data on veterans' participation in various employment and training programs. Data are necessary to evaluate veterans programs.

Ira L. Mills,
Departmental Clearance Officer.

[FR Doc. 05-11962 Filed 6-16-05; 8:45 am]

BILLING CODE 4510-28-P